DEPARTMENT OF HEALTH AND HUMAN SERVICES

Health Resources and Services Administration

Privacy Act of 1974: Revision to Existing System of Records

AGENCY: Health Resources and Services Administration (HRSA), HHS.

ACTION: Notification of an altered system of records.

SUMMARY: In accordance with the requirements of the Privacy Act, HRSA is publishing a notice of a proposal to revise an existing system of records, 09-15-0055, Organ Procurement and Transplantation Network (OPTN) Data System.

DATES: Effective Date: The modifications to this system will become effective without further notice on September 29, 2003, unless comments dictate otherwise. Comment Date: To be considered, written comments must be received on or before September 29, 2003.

ADDRESSES: Written comments should be addressed to James Burdick, M.D., Director, Division of Transplantation, Office of Special Programs, Health Resources and Services Administration, Parklawn Building, Room 16C-17, 5600 Fishers Lane, Rockville, Maryland 20857.

FOR FURTHER INFORMATION CONTACT: James Burdick, M.D., Director, Division of Transplantation, Office of Special Programs, HRSA, Parklawn Building, Room 16C-17, 5600 Fishers Lane, Rockville, Maryland 20857. The telephone number is 301-443-7577.

SUPPLEMENTARY INFORMATION: The current Notice of System of Records requires updated and expanded information in several sections, e.g., Name, System Locations, Categories of Records in the System, Purpose, Safeguards, and Retention and Disposal. In addition, this notice updates and modifies the routine uses of this Notice. Data collected by the OPTN are shared on a monthly basis with the contractor for the Scientific Registry of Transplant Recipients (SRTR) and HRSA's Division of Transplantation (DoT), the Federal entity that oversees the OPTN and SRTR contracts. The notice is published below in its entirety, as amended.

The definitions of the final rule governing the operation of the OPTN (42 CFR part 121) apply to this System of Records Notice.

Dated: August 4, 2003.
Jon Nelson,
Associate Administrator for Management and Program Support.

[FR Doc. 03-20685 Filed 8-15-03; 8:45 am]

BILLING CODE 4165-15-U